FEDERAL EMERGENCY MANAGEMENT AGENCY

Agency Information Collection Activities: Proposed Collection; Comment Request

ACTION: Notice and request for comments.

SUMMARY: The Federal Emergency Management Agency, as part of its continuing effort to reduce paperwork and respondent burden, invites the general public and other Federal agencies to take this opportunity to comment on proposed or continuing information collections. In accordance with the Paperwork Reduction Act of 1995 (44 U.S.C. 3506(c)(2)(A)), this notice seeks comments concerning continuation of inserting the clause at 48 CFR 4452.226-1, Accessibility of Meetings, Conferences and Seminars to Persons with Disabilities, in FEMA contracts under which contractors will plan meetings, conferences and seminars which may be attended by persons with disabilities.

Supplementary Information. Section 504 of the Rehabilitation Act of 1973, as amended, prohibits Federal agencies from discriminating against qualified persons on the grounds of disability. The law not only applies to internal employment practices but also extends to agency interaction with members of the public who participate in FEMA programs. (FEMA's implementation of section 504 of this Act is codified in 44 CFR part 16.) Contractors who plan meetings, conferences, or seminars for FEMA must develop a plan to ensure that minimum accessibility standards for the disabled as set forth in the contract clause will be met. The plan must be approved by a FEMA Contracting Officer.

Collection of Information

Title: FEMA Contract Clause—Accessibility of Meetings, Conferences and Seminars to Persons with Disabilities.

Type of Information Collection: Extension of currently approved collection.

OMB Number: 3067-0213.

Form Numbers. Not Applicable.

Abstract. Contractors who plan meetings, conferences or seminars for FEMA must submit a plan to the Contracting Officer detailing how the minimum accessibility standards for the disabled set forth in the contract clause will be met.

Affected Public: Business and other for-profit.

Number of Responses: FEMA estimates that 10 contractors would be required to comply annually with the contract clause, with an average of 3 hours per response to prepare the plan.

Frequency of Response: One response per year per contract, using a consolidated plan for multiple meetings under one contractor.

Estimated Total Annual Burden Hours: 30 hours.

Estimated Cost: $1033.00.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Branch, Program Services Division, Operations Support Directorate, Federal Emergency Management Agency, 500 C Street, SW., Room 316, Washington, DC 20472.

FOR FURTHER INFORMATION CONTACT: Contact Curtina Arnold, Procurement Analyst, Grants & Acquisition Support Division, (202) 646-4686 for additional information. You may also contact Ms. Anderson at (202) 646-2625 or facsimile number (202) 646-3347 or by e-mail at muriel.anderson@fema.gov. for copies of the proposed collection of information.

Dated: March 6, 2001.
Reginald Trujillo,
Director, Program Services Division, Operations Support Directorate.

[FR Doc. 01-6132 Filed 3-14-01; 8:45 am]

BILLING CODE 6718-01-P